SECURITIES AND EXCHANGE COMMISSION

[Release No. 34-104757; File No. 600-39]

Paxos Securities Settlement Company, LLC; Notice of Designation of a Longer Period for Commission Action on Proceedings To Determine Whether To Grant or Deny an Application for Registration as a Clearing Agency Under Section 17A of the Securities Exchange Act of 1934

January 30, 2026.

On July 14, 2025, Paxos Securities Settlement Company, LLC (“PSSC”) filed with the Securities and Exchange Commission (“Commission”) an application on Form CA-1 (“Application”) under Section 17A of the Securities Exchange Act of 1934 (“Exchange Act”) seeking to register as a clearing agency.¹ Notice of the Application was published for comment in the Federal Register on August 6, 2025 (“Notice”),² and the Commission received a comment in response to the Application.³ On November 4, 2025, the Commission issued an order instituting proceedings to determine whether to grant or deny the Application (“OIP”).⁴

¹ 15 U.S.C. 78q-1. Non-confidential aspects of the Application, including any exhibits thereto cited in this order, are available on the Commission's website at: https://www.sec.gov/rules-regulations/other-commission-orders-notices-information/pssc-form-ca-1.

² Release No. 34-103624 (Aug. 1, 2025), 90 FR 37940 (Aug. 6, 2025).

³ The public comment file for the Application is available on the Commission's website at: https://www.sec.gov/rules-regulations/2025/08/600-39.

⁴ Release No. 34-104174 (Nov. 4, 2025), 90 FR 51416 (Nov. 17, 2025).

Section 19(a)(1)(B) of the Exchange Act provides that proceedings instituted to determine whether to deny an application for registration as a clearing agency shall be concluded within 180 days of the date of a publication of notice of the filing of the application for registration.⁵ At the conclusion of such proceedings, the Commission, by order, shall grant or deny such registration.⁶ The Commission may extend the time for conclusion of such proceedings for up to 90 days if it finds good cause for such extension and publishes its reasons for so finding.⁷ The Notice was published for comment in the Federal Register on August 6, 2025.⁸ The 180th day after publication of the Notice is February 2, 2026. The Commission is extending the time for granting or denying PSSC's Application for registration as a clearing agency for an additional 90 days.

⁵ 15 U.S.C. 78s(a)(1)(B).

⁶ Id.

⁷ Id.

⁸ See supra note 2.

The Commission finds good cause for extending the period for granting or denying PSSC's Application because the extension will provide additional time for the Commission to assess whether the Application satisfies the requirements of Section 17A of the Exchange Act and the rules and regulations thereunder for clearing agencies. In the OIP, the Commission sought comment regarding the Application's consistency with Section 17A(b)(3) of the Exchange Act. In addition, as described in the OIP, PSSC would provide services using a private, permissioned settlement service that supports a distributed ledger, which is designed to conduct delivery versus payment settlement on a bilateral basis, and would become a participant in the Depository Trust Company (“DTC”) so that PSSC can make its services available to other DTC participants.⁹ This novel structure affects the way in which PSSC conducts risk management and risk surveillance, and the rules pursuant to which PSSC would manage the default of its participants. Therefore, the Commission believes there is good cause to extend the time for conclusion of the proceedings for 90 days.

⁹ 90 FR at 51416 & nn.7-8.

Accordingly, pursuant to Section 19(a)(1)(B) of the Exchange Act,¹⁰ the Commission designates May 3, 2026, as the date by which the Commission shall either grant or deny PSSC's Application.

¹⁰ 15 U.S.C. 78s(a)(1)(B).

By the Commission.
Sherry R. Haywood,
Assistant Secretary.

[FR Doc. 2026-02197 Filed 2-2-26; 8:45 am]

BILLING CODE 8011-01-P